DEPARTMENT OF COMMERCE

International Trade Administration

[A-588-704]

Brass Sheet and Strip From Japan: Rescission of Antidumping Duty Administrative Review; 2013-2014

AGENCY: Enforcement and Compliance, International Trade Administration, Department of Commerce.

SUMMARY: The Department of Commerce (the Department) is rescinding the administrative review of the antidumping duty order on brass sheet and strip from Japan for the period of review August 1, 2013, through July 31, 2014, based on the timely withdrawal of the request for review.

DATES: Effective January 28, 2015.

FOR FURTHER INFORMATION CONTACT: Mary Kolberg, AD/CVD Operations, Office I, Enforcement and Compliance, International Trade Administration, U.S. Department of Commerce, 14th Street and Constitution Avenue NW., Washington, DC 20230; telephone: (202) 482-1785.

SUPPLEMENTARY INFORMATION:

Background

On August 1, 2014, the Department published the notice of opportunity to request an administrative review of the antidumping duty order on brass sheet and strip from Japan for the period of review August 1, 2013, through July 31, 2014.¹ On August 27, 2014, Global Brass and Copper Holdings, Inc., dba Olin Brass, Heyco Metals, Inc., Aurubis Buffalo, Inc., PMX Industries, Inc., and Revere Copper Products, Inc. (collectively, the petitioners) requested that the Department conduct an administrative review of the following 22 exporters/producers: (1) Dowa Metals & Mining Co., Ltd.; (2) Fujisawa Co., Ltd.; (3) Furukawa Electric Co., Ltd.; (4) Harada Metal Industry; (5) Hitachi Alloy, Ltd., (6) Hitachi Cable, Ltd.; (7) JX Nippon Mining & Metals Corp.; (8) Kicho Shindosho Co., Ltd.; (9) Kitz Metal Works Corp.; (10) Kobe Steel, Ltd.; (11) Mitsubishi Electric Metecs Co., Ltd.; (12) Mitsubishi Materials Corp.; (13) Mitsubishi Shindoh Co., Ltd.; (14) Mitsui Mining & Smelting Co., Ltd. (Mitsui Kinzoku); (15) Mitsui Sumitomo Metal Mining Brass & Copper Co., Ltd.; (16) NGK Insulators (NGK Metals); (17) Ohki Brass & Copper Co., Ltd.; (18) Sambo Copper Alloy Co., Ld.; (19) Sugino Metal Industry Co., Ltd.; (20) Sumitomo Metal Mining Brass & Copper Co., Ltd.; (21) Uji Copper & Alloy Co., Ltd.; and (22) YKK Corporation.² Pursuant to this request, and in accordance with 19 CFR 351.221(c)(1)(i), the Department published a notice initiating an administrative review of the above-mentioned companies.³ The petitioners withdrew their request for an administrative review of all 22 exporters/producers on December 16, 2014.⁴

¹ See Antidumping or Countervailing Duty Order, Finding, or Suspended Investigation; Opportunity To Request Administrative Review, 79 FR 44740 (August 1, 2014).

² See Letter from the petitioners to the Department, dated August 27, 2014, at 1-2.

³ See Initiation of Antidumping and Countervailing Duty Administrative Reviews, 79 FR 58729 (September 30, 2014).

⁴ See Letter from the petitioners, dated December 16, 2014, at 2.

Rescission of Review

Pursuant to 19 CFR 351.213(d)(1), the Department will rescind an administrative review, in whole or in part, if the party or parties that requested a review withdraws the request within 90 days of the publication date of the notice of initiation of the requested review. As noted above, the petitioners withdrew their request for review of the 22 exporters/producers within 90 days of the publication date of the notice of initiation. No other parties requested an administrative review of the order. Therefore, in accordance with 19 CFR 351.213(d)(1), we are rescinding this review in its entirety.

Assessment

The Department will instruct U.S. Customs and Border Protection (CBP) to assess antidumping duties on all appropriate entries of brass sheet and strip from Japan. Antidumping duties shall be assessed at rates equal to the cash deposit of estimated antidumping duties required at the time of entry, or withdrawal from warehouse, for consumption in accordance with 19 CFR 351.212(c)(1)(i). The Department intends to issue appropriate assessment instructions to CBP 15 days after the date of publication of this notice of rescission of administrative review.

Notifications

This notice also serves as a final reminder to importers of their responsibility under 19 CFR 351.402(f)(2) to file a certificate regarding the reimbursement of antidumping duties prior to liquidation of the relevant entries during this review period. Failure to comply with this requirement could result in the presumption that reimbursement of antidumping duties occurred and the subsequent assessment of double antidumping duties.

This notice also serves as a final reminder to parties subject to administrative protective order (APO) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(1) and 777(i)(1) of the Tariff Act of 1930, as amended, and 19 CFR 351.213(d)(4).

Dated: January 22, 2015.
Christian Marsh,
Deputy Assistant Secretary for Antidumping and Countervailing Duty Operations.

[FR Doc. 2015-01597 Filed 1-27-15; 8:45 am]

BILLING CODE 3510-DS-P